DEPARTMENT OF THE INTERIOR

Bureau of Land Management

[LLWO430000/20X/L12200000.PM0000/241E]

Notice of Use Authorizations; Special Recreation Permits, Other Than on Developed Recreation Sites; Adjustment in Fees

AGENCY: Bureau of Land Management, Interior.

ACTION: Notice of fee adjustments.

SUMMARY: The Bureau of Land Management (BLM) is adjusting certain Special Recreation Permit (SRP) fees for various recreation activities on BLM-administered public lands and related waters. The BLM is adjusting the minimum fee for commercial, competitive, and organized group activities and events, and assigned sites.

FOR FURTHER INFORMATION CONTACT: Cory Roegner, Division of Recreation and Visitor Services, telephone: 573-261-0163, email: croegner@blm.gov. Persons who use a telecommunications device for the deaf (TDD) may call the Federal Relay Service at 1-800-877-8339 to contact Mr. Roegner during normal business hours. The Service is available 24 hours a day, 7 days a week, to leave a message or question. You will receive a reply during normal business hours.

SUPPLEMENTARY INFORMATION: 43 CFR 2932.31 authorizes the BLM Director to periodically adjust SRP fees. This notice establishes that effective immediately, the SRP minimum fee for commercial use is $115 per year (an increase from $110). The minimum fee for both competitive events and organized group activities remains $6 per person per day, and the minimum fee for an assigned site for exclusive commercial use is $230 per site (an increase from $220). Individual States also have the option of imposing application fees as a matter of cost recovery and/or establishing higher minimum fees for SRPs. The next fee adjustment is scheduled for March 1, 2023.

The intended effect of the fee calculation process is to ensure that fees cover administrative costs of permit issuance, provide a fair return to the U.S. Government for use of the public lands, and reflect fair market value. The BLM, in coordination with the U.S. Forest Service, adjusts the minimum commercial, competitive, organized group and activity special recreation permit fees, and minimum assigned site fees every 3 years.

These fees are calculated and adjusted based on the change in the Implicit Price Deflator-Gross Domestic Product Index (IPD-GDP). The IPD-GDP is also available from the U.S. Department of Commerce, Bureau of Economic Analysis, at the following website: http://www.bea.gov/iTable/index_nipa.cfm.

Authority: 43 U.S.C. 1740, 16 U.S.C. 6802, and 43 CFR 2932.31.

Thomas Heinlein,
Acting Assistant Director, National Conservation Lands and Community Partnerships.

[FR Doc. 2020-17052 Filed 8-4-20; 8:45 am]

BILLING CODE 4310-84-P